DEPARTMENT OF HEALTH AND HUMAN SERVICES

Food and Drug Administration

[Docket No. FDA-2011-N-0076]

Agency Information Collection Activities; Submission for Office of Management and Budget Review; Comment Request; Electronic Records; Electronic Signatures

AGENCY: Food and Drug Administration, HHS.

ACTION: Notice.

SUMMARY: The Food and Drug Administration (FDA) is announcing that a proposed collection of information has been submitted to the Office of Management and Budget (OMB) for review and clearance under the Paperwork Reduction Act of 1995.

DATES: Submit written comments (including recommendations) on the collection of information by December 31, 2020.

ADDRESSES: To ensure that comments on the information collection are received, OMB recommends that written comments be submitted to https://www.reginfo.gov/public/do/PRAMain. Find this particular information collection by selecting “Currently under Review—Open for Public Comments” or by using the search function. The OMB control number for this information collection is 0910-0303. Also include the FDA docket number found in brackets in the heading of this document.

FOR FURTHER INFORMATION CONTACT: Domini Bean, Office of Operations, Food and Drug Administration, Three White Flint North, 10A-12M, 11601 Landsdown St., North Bethesda, MD 20852, 301-796-5733, PRAStaff@fda.hhs.gov.

SUPPLEMENTARY INFORMATION: In compliance with 44 U.S.C. 3507, FDA has submitted the following proposed collection of information to OMB for review and clearance.

Electronic Records; Electronic Signatures—21 CFR Part 11

OMB Control Number 0910-0303—Extension

This information collection supports FDA regulations in part 11 (21 CFR part 11), which govern criteria for acceptance of electronic records, electronic signatures, and handwritten signatures executed to electronic records as equivalent to paper records. Under these regulations, records and reports may be submitted to us electronically provided that we have stated our ability to accept the records electronically in an Agency-established public docket and that the other requirements of part 11 are met.

The recordkeeping provisions in §§ 11.10, 11.30, 11.50, and 11.300 (21 CFR 11.10, 11.30, 11.50, and 11.300) require the following standard operating procedures to ensure appropriate use of and precautions for systems using electronic records and signatures: (1) § 11.10 specifies procedures and controls for persons who use closed systems to create, modify, maintain, or transmit electronic records; (2) § 11.30 specifies procedures and controls for persons who use open systems to create, modify, maintain, or transmit electronic records; (3) § 11.50 specifies procedures and controls for persons who use electronic signatures; and (4) § 11.300 specifies controls to ensure the security and integrity of electronic signatures based upon use of identification codes in combination with passwords. The reporting provision (§ 11.100) requires persons to certify to us in writing that they will regard electronic signatures used in their systems as the legally binding equivalent of traditional handwritten signatures.

The burden created by the information collection provision of this regulation is a one-time burden associated with the creation of standard operating procedures, validation, and certification. We anticipate that the use of electronic media will substantially reduce the paperwork burden associated with maintaining FDA-required records. The respondents are businesses and other for-profit organizations, State or local governments, Federal Agencies, and nonprofit institutions.

To assist respondents with the information collection we have developed the guidance document entitled “Guidance for Industry: Part 11, Electronic Records; Electronic Signatures—Scope and Application,” available on our website at https://www.fda.gov/media/75414/download. While we do not believe the guidance creates any attendant burden, it describes the Agency's thinking regarding persons who, in fulfillment of a requirement in a statute or another part of FDA's regulations to maintain records or submit information to FDA, have chosen to maintain the records or submit designated information electronically and, as a result, have become subject to part 11. Part 11 applies to records in electronic form that are created, modified, maintained, archived, retrieved, or transmitted under any records requirements set forth in Agency regulations. Part 11 also applies to electronic records submitted to the Agency under the Federal Food, Drug, and Cosmetic Act and the Public Health Service Act, even if such records are not specifically identified in Agency regulations (§ 11.1).

In the Federal Register of August 13, 2020 (85 FR 49381), we published a 60-day notice requesting public comment on the proposed collection of information. One comment was received but was not responsive to the information collection topics solicited.

We estimate the burden of this collection of information as follows:

Table 1—Estimated Annual Reporting Burden 1
21 CFR section | Number of respondents | Number of responses per respondent | Total annual responses | Average burden per response | Total hours
§ 11.100 | 4,500 | 1 | 4,500 | 1 | 4,500
¹ There are no capital costs or operating and maintenance costs associated with this collection of information.

Table 2—Estimated Annual Recordkeeping Burden 1
21 CFR section | Number of recordkeepers | Number of record per recordkeepers | Total annual records | Average burden per recordkeeping | Total hours
§ 11.10 | 2,500 | 1 | 2,500 | 20 | 50,000
§ 11.30 | 2,500 | 1 | 2,500 | 20 | 50,000
§ 11.50 | 4,500 | 1 | 4,500 | 20 | 90,000
§ 11.300 | 4,500 | 1 | 4,500 | 20 | 90,000
Total |  |  |  |  | 280,000
¹ There are no capital costs or operating and maintenance costs associated with this collection of information.

Based on a review of the information collection since our last request for OMB approval, we have made no adjustments to our burden estimate.

Dated: November 23, 2020.
Lauren K. Roth,
Acting Principal Associate Commissioner for Policy.

[FR Doc. 2020-26487 Filed 11-30-20; 8:45 am]

BILLING CODE 4164-01-P